DEPARTMENT OF COMMERCE

Submission for OMB Review; Comment Request

The Department of Commerce has submitted to the Office of Management and Budget (OMB) for clearance the following proposal for collection of information under the provisions of the Paperwork Reduction Act (44 U.S.C. chapter 35).

Agency: National Telecommunications and Information Administration (NTIA).

Title: Public Telecommunications Facilities Program (PTFP) Application Form.

Form Number(s): None.

OMB Approval Number: 0660-0003.

Type of Review: Regular submission.

Burden Hours: 37,188.

Number of Respondents: 450.

Average Hours Per Response: 77 hours to prepare online applications; and 86 hours to prepare printed applications. In every grant cycle, NTIA/PTFP requires revised information to be submitted by applicants under serious consideration for funding, this re-submission takes an average of 6 hours for online applications and 9 hours for printed applications.

Needs and Uses: The PTFP is a grant-making program that operates an annual application review process. The applicants submit proposals which describe unique projects intended to provide broadcasting or telecommunications services to the general public. The application forms make possible the required competitive review process for making decisions on which applicants are funded.

Affected Public: Not-for-profit institutions; State, local, or Tribal government.

Frequency: Annually.

Respondent's Obligation: Required to obtain or retain benefits.

OMB Desk Officer: Kim Johnson, (202) 395-7232.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent within 30 days of publication of this notice to Kim Johnson, OMB Desk Officer, Room 10202, New Executive Office Building, Washington, DC 20503.

Dated: August 19, 2003.
Gwellnar Banks,
Management Analyst, Office of the Chief Information Officer.

[FR Doc. 03-21637 Filed 8-22-03; 8:45 am]

BILLING CODE 3510-60-P